NATIONAL AERONAUTICS AND SPACE ADMINISTRATION

[Notice (17-051)]

NASA Advisory Council; Ad Hoc Task Force on STEM Education Meeting

AGENCY: National Aeronautics and Space Administration.

ACTION: Notice of meeting.

SUMMARY: In accordance with the Federal Advisory Committee Act, as amended, the National Aeronautics and Space Administration announces a meeting of the Ad Hoc Task Force on Science, Technology, Engineering and Mathematics (STEM) of the NASA Advisory Council (NAC). This Task Force reports to the NAC.

DATES: Wednesday, July 19, 2017, 2:15 p.m. to 4:30 p.m., EDT.

ADDRESSES: NASA Headquarters, Washington, DC 20456.

FOR FURTHER INFORMATION CONTACT: Dr. Beverly Girten, Executive Secretary, NAC Ad Hoc Task Force on STEM Education, NASA Headquarters, Washington, DC 20546, 202-358-0212, or beverly.e.girten@nasa.gov.

SUPPLEMENTARY INFORMATION: This is a virtual meeting and will be open to the public telephonically and by WebEx only. You must use a touch tone phone to participate in this meeting. Any interested person may dial the toll free access number 1-844-467-6272 or toll access number 1-720-259-6462, and then the numeric participant passcode: 634012 followed by the # sign. To join via WebEx on July 19, 2017, the link is https://nasa.webex.com/, the meeting number is 998 317 068 and the password is Elaine54$ (case sensitive.) NOTE: If dialing in, please “mute” your telephone. The agenda for the meeting will include the following:

—Opening Remarks by Chair

—STEM Education Advisory Panel (CoSTEM)

—Update on Business Service Assessment

—Status on Office of Education Budget

—Discussing/Finalizing Findings and Recommendations

—Other Related Topics

This virtual meeting is taking place with less than 15 calendar days' notice due to administrative scheduling issues. It is imperative that the meeting be held on this date to accommodate the scheduling priorities of the key participants.

Patricia D. Rausch,
Advisory Committee Management Officer, National Aeronautics and Space Administration.

[FR Doc. 2017-14711 Filed 7-12-17; 8:45 am]

BILLING CODE 7510-13-P